DEPARTMENT OF JUSTICE

Notice of Lodging of Proposed Consent Decree Under the Clean Water Act and Oil Pollution Act

On April 8, 2024, the Department of Justice filed a complaint under the Clean Water Act and the Oil Pollution Act and lodged a proposed consent decree with the United States District Court for the Southern District of Texas in the lawsuit entitled United States of America and State of Texas v. Flint Hills Resources Ingleside, LLC, Civil Action No. 2:24-cv-00079.

The complaint alleges that the defendant, Flint Hills Resources, Ingleside, LLC, is civilly liable for violation of section 311 of the Clean Water Act, 33 U.S.C. 1321, and for natural resource damages under section 1002 of the Oil Pollution Act, 33 U.S.C. 2702. The State of Texas is a co-plaintiff for the natural resource damages claims. The complaint addresses the discharge of about 14,000 gallons of crude oil that spilled into Corpus Christi Bay from a ruptured pipe on a dock at the defendant's crude oil storage terminal in Ingleside, Texas, on the night of December 24, 2022. The complaint further alleges that the oil impacted water quality, beach, and marsh areas and harmed a variety of fish and wildlife, including birds and sea turtles.

To resolve the claims, the company will pay a total of $989,212.80. Under the proposed consent decree, the company will pay the United States $400,000 in civil penalties for the Clean Water Act oil discharge violation. This claim is brought by the United States on behalf of the United States Coast Guard. The penalties paid for this claim will be deposited in the federal Oil Spill Liability Trust Fund managed by the National Pollution Funds Center. The Oil Spill Liability Trust Fund is used to pay for federal response activities and to compensate for damages when there is a discharge or substantial threat of discharge of oil or hazardous substances to waters of the United States or adjoining shorelines.

The company will also pay the United States and the State of Texas, on behalf of the federal and State natural resource trustees, $589,212.80 as natural resource damages under the Oil Pollution Act. The federal trustees are the Department of the Interior, through the Fish and Wildlife Service, and the Department of Commerce's National Oceanic and Atmospheric Administration. The State trustees are the Texas General Land Office, the Texas Commission on Environmental Quality, and the Texas Parks and Wildlife Department. Pursuant to the Oil Pollution Act, each trustee acts on behalf of the public to seek damages for the injury to, destruction of, or loss of natural resources resulting from the discharge of oil into the environment. Under the consent decree, the defendant's payment provides for $427,000 of the total to be used by the trustees to design, implement, and oversee natural resource restoration projects to compensate for the injuries resulting from the oil discharge. The rest of the funds will be used to repay the trustees for each agency's work to assess the injuries to natural resources. The United States and the State are coordinating injury assessment and restoration efforts.

The publication of this notice opens a period for public comment on the proposed consent decree. Comments should be addressed to the Assistant Attorney General, Environment and Natural Resources Division, and should refer to United States of America and State of Texas v. Flint Hills Resources Ingleside, LLC, D.J. Ref. No. 90-5-1-1-12902. All comments must be submitted no later than thirty (30) days after the publication date of this notice. Comments may be submitted by either email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the proposed consent decree may be examined and downloaded at this Justice Department website: https://www.justice.gov/enrd/consent-decrees. If you require assistance accessing the consent decree, you may request assistance by email or by mail to the addresses provided above for submitting comments.

Thomas Carroll,
Assistant Section Chief, Environmental Enforcement Section, Environment and Natural Resources Division.

[FR Doc. 2024-07688 Filed 4-11-24; 8:45 am]

BILLING CODE 4410-15-P